CORPORATION FOR NATIONAL AND COMMUNITY SERVICE

Due Dates for Applications for Assistance Under AmeriCorps*State/National, AmeriCorps Education Awards Program, and AmeriCorps Promise Fellows

AGENCY: Corporation for National and Community Service.

ACTION: Notice.

SUMMARY: The Corporation for National and Community Service announces the timeline for applications for assistance under AmeriCorps*State/National, AmeriCorps Education Awards Program, and AmeriCorps Promise Fellows.

FOR FURTHER INFORMATION CONTACT: Shelly Ryan, (202) 606-5000, ext. 549 or sryan@cns.gov. T.D.D. (202) 565-2799. For individuals with disabilities, we will make this information available in alternative formats upon request.

SUPPLEMENTARY INFORMATION: Pursuant to the National and Community Service Act of 1990, as amended (42 U.S.C. 12501 et. seq.), we announce the following timeline for applications for assistance under AmeriCorps*State/National, AmeriCorps Education Awards Program, and AmeriCorps Promise Fellows.

• AmeriCorps*State:

Competitive, February 20, 2001

Formula, May 15, 2001

Programs in North and South Dakota, May 15, 2001

U.S. Territories, May 15, 2001

Indian Tribes (new), March 28, 2001

Indian Tribes (continuations), March 12, 2001

• AmeriCorps*National (new), May 3, 2001

• AmeriCorps*National (continuations), April 17, 2001

• AmeriCorps*Education Awards Program, May 15, 2001 and November 8, 2001

• AmeriCorps Promise Fellows, June 15, 2001

The application guidelines for each program contain information concerning available funds and program requirements as well as information about the application process itself. If you are an organization that applies directly to us, you may download the application guidelines from our website at: http://americorps.org/resources or you can obtain a hard copy by calling (202) 606-5000 ext. 163.

Organizations interested in applying under the AmeriCorps*National application guidelines may participate in one of two conference calls to be held on February 22, 2001 and March 22, 2001, respectively, during which Corporation staff will provide technical assistance to potential applicants. The calls will begin at 2:30 p.m. and conclude at 4:00 p.m., Eastern Standard Time. Please call (202) 606-5000 ext. 386 to register for the conference call. Upon registration for one of the calls, you will be provided with the applicable 800 number needed for participation.

For organizations that apply directly to a State Commission, you may obtain contact information at http://www.nationalservice.org/contactus.html/

Dated: January 26, 2001.
Peter Heinaru,
Director, AmeriCorps*State/National.

[FR Doc. 01-2673 Filed 1-30-01; 8:45 am]

BILLING CODE 6050-28-P